DEPARTMENT OF COMMERCE

Bureau of Economic Analysis

Institutional Remittances to Foreign Countries—BE-40

ACTION: Proposed collection; comment request.

SUMMARY: The Department of Commerce, as part of its continuing effort to reduce paperwork and respondent burden, invites the general public and other Federal agencies to take this opportunity to comment on proposed and/or continuing information collections; as required by the Paperwork Reduction Act of 1995, Public Law 104-13 (44 U.S.C. 3506(c)(2)(A)).

DATES: Written comments must be submitted on or before May 28, 2002.

ADDRESSES: Direct all written comments to Madeleine Clayton, Departmental Paperwork Clearance Officer, Department of Commerce, Room 6608, 14th and Constitution Avenue, NW., Washington, DC 20230.

FOR FURTHER INFORMATION CONTACT: Requests for additional information or copies of the information collection instrument and instructions should be directed to: Michael Mann, Chief, Current Account Services Branch, Room 8018, Bureau of Economic Analysis, U.S. Department of Commerce, Washington, DC 20230; phone: (202) 606-9573; and fax: (202) 606-5314.

SUPPLEMENTARY INFORMATION:

I. Abstract

The Bureau of Economic Analysis is responsible for the computation and publication of the U.S. balance of payments accounts. The information collected in this survey is an integral part of the “private remittances” portion of the U.S. balance of payments accounts. The balance of payments accounts, which are published quarterly in the Bureau's monthly publication, the Survey of Current Business, are one of the major statistical products of BEA. The accounts provide a statistic summary of U.S. international transactions. They are used by government and private organizations for national and international policy formulation, and analytical studies. Without the information collected in this survey, an integral component of the private remittances account would be omitted. No other Government agency collects comprehensive annual data on private unilateral transfers of funds to foreign countries.

The survey requests information from U.S. religious, charitable, educational, scientific, and similar organizations on the transfer of cash grants to foreign countries and their expenditures in foreign countries. Information is collected on a quarterly basis from institutions transferring $1 million or more each year, and annually for all others. Nonprofit organizations with total remittance of less than $25,000 annually are exempt from reporting.

II. Method of Collection

Information is obtained from U.S. religious, charitable, educational, scientific, and similar organizations who voluntarily agree to provide data regarding transfers of cash grants to foreign countries and their expenditures in foreign countries. Submission of the completed report form, or computer printouts in the format of the report form, are the most expedient and economical methods of reporting the information. In accordance with the Paperwork Reduction Act of 1995, BEA is implementing the ASTAR system which allows organizations to file electronically via the Internet.

III. Data

OMB Number: 0608-0002.

Form Number: BE-40.

Type of Review: Renewal—regular submission.

Affected Public: U.S. religious, charitable, educational, scientific, and similar organizations which transfer cash grants to foreign countries and their expenditures in foreign countries.

Estimated Number of Respondents: 1,336.

Estimated Time Per Response: 1.5 hours per annual reporter. 6.0 hours per quarterly reporter.

Estimated Total Annual Burden Hours: 3,273 hours.

Estimated Total Annual Cost: The estimated annual cost to the government is $17,600. The estimated annual cost to the public is $98,190 based on total number of hours estimated as the reporting burden and as estimated hourly cost of $30.

Respondent's Obligation: Voluntary.

Legal Authority: Bretton Woods Agreement Act, Section 8, and E.O. 10033, as amended.

IV. Request for Comments

Comments are invited on: (a) Whether the proposed collection of information is necessary for the proper performance of the functions of the agency; including whether the information shall have practical utility; (b) the accuracy of the agency's estimate of burden (including hours and costs) of the proposed collection of information; (c) ways to enhance the quality, utility, and clarity of the information to be collected; and (d) ways to minimize the burden of the collection of information on respondents, including through the use of automated collection techniques or other forms of information technology.

Comments submitted in response to this notice will be summarized and/or included in the request for OMB approval of the information collection; they also will become a matter of public record.

Dated: March 26, 2002.
Madeleine Clayton,
Departmental Paperwork Clearance Officer, Office of the Chief Information Officer.

[FR Doc. 02-7542 Filed 3-28-02; 8:45 am]

BILLING CODE 3510-EA-M